DEPARTMENT OF HEALTH AND HUMAN SERVICES

National Institutes of Health

National Cancer Institute; Amended Notice of Meeting

Notice is hereby given of a change in the meeting of the National Cancer Institute Special Emphasis Panel, February 11, 2009, 8 a.m. to February 13, 2009, 5 p.m., Hilton Washington/Rockville, 1750 Rockville Pike, Rockville, MD 20852 which was published in the Federal Register on October 15, 2008, 73 FR 61143.

This notice is amended to change the date & time from February 11, 2009, 8 a.m. to February 13, 2009, 5 p.m. to February 11, 7 a.m. to February 12, 2009, 5 p.m. The meeting is closed to the public.

Dated: November 20, 2008.
Jennifer Spaeth,
Director, Office of Federal Advisory Committee Policy.

[FR Doc. E8-28208 Filed 11-26-08; 8:45 am]

BILLING CODE 4140-01-P